DEPARTMENT OF LABOR

Employment and Training Administration

[TA-W-42, 025]

Sappi Fine Paper North America, Cloquet, MN; Notice of Termination of Investigation

Pursuant to section 221 of the Trade Act of 1974, an investigation was initiated on August 26, 2002, in response to a petition that was filed on behalf of workers at Sappi Fine Paper North America, Cloquet, Minnesota.

An active certification covering the petitioning group of workers is already in effect (TA-W-38,400, as amended). Consequently, further investigation in this case would serve no purpose, and the investigation has been terminated.

Signed in Washington, DC this 26th day of September, 2002.
Linda G. Poole,
Certifying Officer, Division of Trade Adjustment Assistance.

[FR Doc. 02-26746 Filed 10-21-02; 8:45 am]

BILLING CODE 4510-30-P